SMALL BUSINESS ADMINISTRATION

[Declaration of Disaster #3512, Amdt. #4]

State of West Virginia

In accordance with the notice received from the Department of Homeland Security, Federal Emergency Management Agency, effective July 14, 2003, the above numbered declaration is hereby amended to include Monongalia County in the State of West Virginia as a disaster area due to damages caused by severe storms, flooding, and landslides that occurred June 11, 2003, and continuing.

In addition, applications for economic injury loans from small businesses located in the following contiguous counties may be filed until the specified date at the previously designated location: Marion, Preston, Taylor, and Wetzel Counties in the State of West Virginia; and Fayette and Greene Counties in the Commonwealth of Pennsylvania.

The economic injury number for Pennsylvania is 9W4000.

All other information remains the same, i.e., the deadline for filing applications for physical damage is August 20, 2003, and for economic injury the deadline is March 22, 2004.

(Catalog of Federal Domestic Assistance Program Nos. 59002 and 59008)
Dated: July 15, 2003.
Herbert L. Mitchell,
Associate Administrator for Disaster Assistance.

[FR Doc. 03-18584 Filed 7-21-03; 8:45 am]

BILLING CODE 8025-01-P